NATIONAL TRANSPORTATION SAFETY BOARD

Sunshine Act Meeting

TIME AND DATE: 9:30 a.m., Wednesday, October 12, 2011.

PLACE: NTSB Conference Center, 429 L'Enfant Plaza, SW., Washington, DC 20594.

STATUS: The One item is open to the public.

MATTER TO BE CONSIDERED:

8345 International Investigations: Global Collaboration with Domestic Impact.

NEWS MEDIA CONTACT: Telephone: (202) 314-6100.

The press and public may enter the NTSB Conference Center one hour prior to the meeting for set up and seating.

Individuals requesting specific accommodations should contact Rochelle Hall at (202) 314-6305 by Friday, October 7, 2011.

The public may view the meeting via a live or archived webcast by accessing a link under “News & Events” on the NTSB home page at http://www.ntsb.gov.

FOR MORE INFORMATION CONTACT: andi Bing, (202) 314-6403 or by e-mail at bingc@ntsb.gov.

Dated: Friday, September 23, 2011.
Candi R. Bing,
Federal Register Liaison Officer.

[FR Doc. 2011-24992 Filed 9-23-11; 4:15 pm]

BILLING CODE 7533-01-P